DEPARTMENT OF COMMERCE

Foreign-Trade Zones Board

[B-41-2020]

Foreign-Trade Zone (FTZ) 22—Chicago, Illinois; Notification of Proposed Production Activity; Volflex, Inc.; Correction

The Federal Register notice published on June 30, 2020 (85 FR 39163), for the notification of proposed production activity submitted to the FTZ Board on behalf of Volflex, Inc., located in Mokena, Illinois, is corrected as follows:

In paragraph 3, the range of duty rates listed at the end of the second sentence should read: “(duty rate ranges from duty-free to 3.7%)”.

For further information, contact Juanita Chen at juanita.chen@trade.gov or 202-482-1378.

Dated: June 30, 2020.
Elizabeth Whiteman,
Acting Executive Secretary.

[FR Doc. 2020-14590 Filed 7-6-20; 8:45 am]

BILLING CODE 3510-DS-P